DEPARTMENT OF ENERGY

Environmental Management Site-Specific Advisory Board, Fernald

AGENCY: Department of Energy.

ACTION: Notice of open meeting.

SUMMARY: This notice announces a meeting of the Environmental Management Site-Specific Advisory Board (EM SSAB), Fernald. The Federal Advisory Committee Act (Pub. L. No. 92-463, 86 Stat. 770) requires that public notice of these meetings be announced in the Federal Register.

DATES: Saturday, January 13, 2001, 8:30 p.m.-12:30 p.m.

ADDRESSES: Fernald Environmental Mangement Project, Site Services Building Conference Room, 7400 Willey Road, Hamilton, OH 45219.

FOR FURTHER INFORMATION CONTACT: Victoria Spriggs, Phoenix Environmental, 6186 Old Franconia Road, Alexandria, VA 22310, at (703) 971-0058 or e-mail; vspriggs@theperspectivesgroup.com

SUPPLEMENTARY INFORMATION: Purpose of the Board: The purpose of the Board is to make recommendations to DOE in the areas of environmental restoration, waste management, and related activities.

Tentative Agenda:

8:30 a.m. Call to Order

8:30-8:45 a.m. Chair's Remarks and Ex-Officio Announcements

8:45-9:30 a.m. Upcoming Chairs Meeting

9:30-10:15 a.m. Questions and Answers on New Contract and Rebaseline

10:30-11:00 a.m. WRAP Update and Discussion

11:00-11:30 a.m. Silos Update and Discussion

11:30-11:45 a.m. Stewardship Plans for 2001

11:45-12:15 p.m. New Member Candidates

12:15-12:30 p.m. Public Comment Session

12:30 p.m. Adjourn

Public Participation: The meeting is open to the public. Written statements may be filed with the Board either before or after the meeting. Individuals who wish to make oral statements pertaining to agenda items should contact Board chair at the address or telephone number listed below. Requests must be received five days prior to the meeting and reasonable provision will be made to include the presentation in the agenda. The Deputy Designated Federal Officer, Gary Stegner, Public Affairs Office, Ohio Field Office, U.S. Department of Energy, is empowered to conduct the meeting in a fashion that will facilitate the orderly conduct of business. Each individual wishing to make public comment will be provided a maximum of five minutes to present their comments.

Minutes: Minutes of this meeting will be available for public review and copying at the Freedom of Information Public Reading Room, 1E-190, Forrestal Building, 1000 Independence Avenue, SW., Washington, DC, 20585 between 9:00 a.m. and 4:00 p.m., Monday-Friday, except Federal holidays. Minutes will also be available by writing to the Fernald Citizens? Advisory Board, c/o Phoenix Environmental Corporation, MS-76, Post Office Box 538704, Cincinnati, OH 43253-8704, or by calling the Advisory Board at (513) 648-6478.

Issued at Washington, DC on December 18, 2000.
Rachel M. Samuel,
Deputy Advisory Committee Management Officer.

[FR Doc. 00-32681 Filed 12-21-00; 8:45 am]

BILLING CODE 6450-01-P